DEPARTMENT OF HOMELAND SECURITY

Coast Guard

[Docket No. USCG-2010-0455]

Record of Decision, Fort Hamer Bridge, Manatee County, FL

AGENCY: Coast Guard, DHS.

ACTION: Notice of availability.

SUMMARY: The Coast Guard announces the availability of its Record of Decision for the Final Environmental Impact Statement approved on April 8, 2014 for proposed construction of a highway bridge across the Manatee River at Parrish, Manatee County, Florida. In accordance with the National Environmental Policy Act and the Council on Environmental Quality regulations, the Coast Guard has approved the preferred alternative. All practicable measures to avoid or minimize environmental harm have been identified and incorporated in the preferred alternative.

ADDRESSES: The ROD is available online at http://www.regulations.gov under the docket number for this notice, USCG-2010-0455. It can also be viewed at the Coast Guard's Seventh District Bridge Office, 909 SE. 1st Avenue, Brickell Plaza Federal Building, Ste. 432, Miami, Florida 33131, between 8 a.m. and 4 p.m., Monday through Friday, except Federal holidays.

FOR FURTHER INFORMATION CONTACT: For information about this document call or email Randall Overton, Bridge Management Specialist, Seventh Coast Guard District, U.S. Coast Guard; telephone 305-415-6736, email Randall.D.Overton@uscg.mil. If you have questions on viewing or submitting material to the docket, call Cheryl Collins, Program Manager, Docket Operations, telephone 202-366-9826.

Dated: August 1, 2014.
Brian L. Dunn,
Chief, Office of Bridge Programs, U.S. Coast Guard.

[FR Doc. 2014-19575 Filed 8-15-14; 8:45 am]

BILLING CODE 9110-04-P